DEPARTMENT OF HEALTH AND HUMAN SERVICES

Office of the Secretary

2 CFR Part 376

42 CFR Parts 23, 51c, 52i, 56, 57, 63, and 124

45 CFR Parts 3, 63, and 75

48 CFR Parts 302 and 326

[Docket Number HHS-OS-2020-0015]

RIN 0991-AC19

Food and Drug Administration

21 CFR Parts 1, 5, 12, 14, 25, 81, 133, 172, 178, 184, 201, 310, 369, 501, and 582

Centers for Medicare & Medicaid Services

42 CFR Parts 411, 412, 422, 423, 426, 440, 441, 447, 482, and 485

Office of Inspector General

42 CFR Parts 1004 and 1008

Administration for Children and Families

45 CFR Parts 305, 307, 1324, 1325, 1326, and 1328

Regulatory Clean Up Initiative; Correction

AGENCY: Office of the Assistant Secretary for Administration (ASA), HHS.

ACTION: Final rule; correction.

SUMMARY: The Department of Health and Human Services is correcting a final rule that appeared in the Federal Register on November 16, 2020. This document had incorrectly designated footnotes and typographical errors.

DATES: Effective December 17, 2020.

FOR FURTHER INFORMATION CONTACT: Douglas Cheung, Ph.D., phone: 202-690-6704, email: douglas.cheung@hhs.gov; and RegCleanUp@hhs.gov.

SUPPLEMENTARY INFORMATION: In FR Doc. 2020-21774, appearing on page 72899 in the Federal Register of November 16, 2020, the following corrections are made:

§ 51c [Corrected]

1. On page 72901, in the first column, in 42 CFR part 51c, “Correct Reference. Section 51c.107(5) . . .” is corrected to read “Correct Reference. Section 51c.107(b)(5) . . .”

§ 56 [Corrected]

2. On page 72901, in the second column, in 42 CFR part 56, a bullet is missing and is corrected to read as follows:

• Correct Reference. Section 56.603(e) is amended to remove the phrase “the most recent CSA Income Poverty Guidelines (45 CFR 1060.2)” and replace it with “the poverty guidelines updated periodically in the Federal Register by the U.S. Department of Health and Human Services under the authority of 42 U.S.C. 9902(2)”. The Secretary of HHS is required to update the poverty guidelines at least annually, adjusting them based on the Consumer Price Index for All Urban Consumers. 45 CFR 1060.2 no longer exists; rather, updates are published at least annually in the Federal Register.

§ 422 [Corrected]

3. On page 72902, in the first column, in 42 CFR part 422, the third sentence of the last bullet, “The reference to § 423.858 . . .” is corrected to read “The reference to § 422.858 . . .”

§ 5.1100 [Corrected]

4. On page 72906, in the third column, instruction 6 is corrected to read as follows:

6. Amend § 5.1100 by:

a. Redesignating footnotes 2 through 62 as footnotes 3 through 63.

b. Revising the entry for “Office of the Chief Counsel” as follows:

§ 5.1100 Headquarters.

* * * * *

Office of the Chief Counsel.²

² The Office of the Chief Counsel (also known as the Food and Drug Division, Office of the General Counsel, Department of Health and Human Services), while administratively within the Office of the Commissioner, is part of the Office of the General Counsel of the Department of Health and Human Services.

* * * * *

§ 14.7 [Corrected]

5. On page 72906, in the third column, instruction 11 is corrected to read as follows:

11. Amend § 14.7(b) by removing “45 CFR 5.34” and adding in its place “45 CFR 5.61 through 5.64”.

§ 56.303 [Corrected]

6. On page 72908, in the third column, instructions 48 and 49 are corrected to read as follows:

48. Amend § 56.303(f) by removing the phrase “the most recent CSA Poverty Income Guidelines (45 CFR 1060.2)” and adding in its place “the poverty guidelines updated periodically in the Federal Register by the U.S. Department of Health and Human Services under the authority of 42 U.S.C. 9902(2)”.

49. Amend § 56.603(e) by removing the phrase “the most recent CSA Poverty Income Guidelines (45 CFR 1060.2)” and adding in its place “the poverty guidelines updated periodically in the Federal Register by the U.S. Department of Health and Human Services under the authority of 42 U.S.C. 9902(2)”.”

§ 3.5 [Corrected]

7. On page 72910, in the first column, instruction 91 is corrected to read as follows:

91. Amend § 3.5 by:

a. Removing the reference “41 CFR part 101-48” and adding in its place “41 CFR 102”.

b. Removing “41 CFR 101-45.304 and 101-48.305” and adding in its place “41 CFR 102-41”.”

§ 1324.11 [Corrected]

8. On page 72911, in the second column, instruction 102 is corrected to read as follows:

102. Amend § 1324.11 by:

a. Removing the reference “1327.13(e)” and adding in its place “1324.13(e)”.

b. Removing all references “1327.19(b)(5) through (8)” and adding in their places “1324.19(b)(5) through (8)”.

c. Removing the reference “1327.21” and adding in its place “1324.21”.”

Dated: November 24, 2020.
Wilma M. Robinson,
Deputy Executive Secretary, Department of Health and Human Services.

[FR Doc. 2020-26389 Filed 12-16-20; 8:45 am]

BILLING CODE 4151-17-P